DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Hepatitis B and C Among Health Care for the Homeless Program Clients—New

The Health Care for the Homeless Clinicians' Network (HCHCN) of the National Health Care for the Homeless Council, Inc., through a cooperative agreement with the Bureau of Primary Health Care, Health Resources and Services Administration, proposes to conduct epidemiological research regarding hepatitis B and C. The study will be of adult homeless clients and will be conducted using laboratory tests and patient interviews. The study is designed to estimate the prevalence of lifetime hepatitis B and C infection among homeless adults and the rate of comorbidity of hepatitis B and C infection, identify high-risk groups, describe health service utilization specific to hepatitis B and C, and assess patient knowledge and attitudes regarding hepatitis B and C. The participants will be recruited from eight clinics of the national Health Care for the Homeless Program.

The estimated response burden is as follows:

Respondent | Number of respondents | Responses per respondent | Hours per response | Total hour burden
Clients | 400 | 1 | 1 | 400

Written comments and recommendations concerning the proposed information collection should be sent within 30 days of this notice to: John Morrall, Human Resources and Housing Branch, Office of Management and Budget, New Executive Office Building, Room 10235, Washington, DC 20503.

Dated: March 20, 2002.
Jane M. Harrison,
Director, Division of Policy Review and Coordination.

[FR Doc. 02-7181 Filed 3-25-02; 8:45 am]

BILLING CODE 4165-15-P